ENVIRONMENTAL PROTECTION AGENCY

[EPA-HQ-OPP-2006-0816; FRL-8097-3]

The Association of American Pesticide Control Officials State FIFRA Issues Research and Evaluation Group Working Committee on Water Quality Pesticide Disposal; Notice of Public Meeting

AGENCY: Environmental Protection Agency (EPA).

ACTION: Notice.

SUMMARY: The Association of American Pesticide Control Officials (AAPCO)/State FIFRA Issues Research and Evaluation Group (SFIREG) Working Committee on Water Quality and Pesticide Disposal (WQ/PD) will hold a 2-day meeting, beginning on November 6, 2006 and ending November 7, 2006. This notice announces the location and times for the meeting and sets forth the tentative agenda topics.

DATES: The meeting will be held on November 6, 2006 from 8.30 a.m. to 5 p.m. and 8:30 a.m. to 12 noon on November 7, 2006.

To request accommodation of a disability, please contact the person listed under FOR FURTHER INFORMATON CONTACT, preferably at least 10 days prior to the meeting, to give EPA as much time as possible to process your request.

ADDRESSES: The meeting will be held at Radisson Hotel Reagan National Airport, 2020 Jefferson Davis Highway, Arlington, VA 22202.

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you all parties interested in SFIREG information exchange relationship with EPA regarding important issues related to human health, environmental exposure to pesticides, and insight into EPA's decision-making process are invited and encouraged to attend the meetings and participate as appropriate. Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket identification (ID) number EPA-HQ-OPP-2006-0816. Publicly available docket materials are available either in the electronic docket at http://www.regulations.gov, or, if only available in hard copy, at the Office of Pesticide Programs (OPP) Regulatory Public Docket in Rm. S-4400, One Potomac Yard (South Bldg.), 2777 S. Crystal Drive Arlington, VA. The hours of operation of this Docket Facility are from 8:30 a.m. to 4 p.m., Monday through Friday, excluding legal holidays. The Docket telephone number is (703) 305-5805.

II. Tentative Agenda

1. Office of Pesticide Programs-Office of Water Partnerships in Pesticide Water Quality Programs.

2. Disposal of Pesticide-Treated Seed.

3. Prioritizing Ambient Water Criteria for Pesticides.

4. Endangered Species and Pesticide Water Quality Issues.

5. Atrazine Special Review Progress.

6. Pesticide Degradates.

7. EPA Water Quality Performance Measures/State End-of-year Reporting.

8. Committee Workgroups Issues Papers, Updates, Surveys.

9. FIFRA/CWA: Court Cases, USEPA Proposed Rules.

10. Water Quality Pesticide Regulatory Education Program Course Review.

11. Container/Containment Rule Implementation; Container Recycling: State Information Gathering.

12. Toxicity and Fate Data Retrieval Protocol for States.

13. Pyrethroid Registration Evaluation and Lab Analytical Issues.

14. Water Quality Benchmarks for Screening-Level Assessments.

15. EPA Update/Briefing:

• a. Office of Pesticide Programs Update.

• b. Office of Enforcement Compliance Assurance Update.

List of Subjects

Environmental protection, Pesticides and pest.

Dated: October 4, 2006.
William R. Diamond,
Director, Field External Affairs Division, Office of Pesticide Programs

[FR Doc. E6-16910 Filed 10-12-06; 8:45 am]

BILLING CODE 6560-50-S